DEPARTMENT OF HEALTH AND HUMAN SERVICES

National Institutes of Health

Center for Scientific Review; Amended Notice of Meeting

Notice is hereby given of a change in the meeting of the Innovations in Nanosystems and Nanotechnology Study Section, October 08, 2025, 09:30 a.m. to October 09, 2025, 06:30 p.m., National Institutes of Health, Rockledge II, 6701 Rockledge Drive, Bethesda, MD 20892 which was published in the Federal Register on August 22, 2025, 90 FR 41091, FR Doc No 2025-16169.

This meeting is being amended to change the meeting start time from 9:30 a.m. to 9:00 a.m. The date and location remain the same. The meeting is closed to the public.

Dated: September 4, 2025.
Denise M. Santeufemio,
Program Analyst, Office of Federal Advisory Committee Policy.

[FR Doc. 2025-17280 Filed 9-8-25; 8:45 am]

BILLING CODE 4140-01-P